DEPARTMENT OF TRANSPORTATION

Federal Motor Carrier Safety Administration

[Docket No. FMCSA-2023-0178]

Agency Information Collection Activities; Renewal of an Approved Information Collection Request: Financial Responsibility for Motor Carriers of Passengers and Motor Carriers of Property

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. The information collected will be used to help ensure that motor carriers of passengers and property maintain the statutorily mandated levels of financial responsibility to operate on public highways. On October 3, 2023, FMCSA published a notice in the Federal Register with a 60-day comment period to announce its intention to submit this ICR to OMB for renewal. FMCSA received no comments in response to the published notice.

DATES: Comments on this notice must be received on or before April 1, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. Jeffrey Secrist, Office of Registration, Chief, Registration Division, DOT, FMCSA, West Building 6th Floor, 1200 New Jersey Avenue SE, Washington, DC 20590; (202) 385-2367; jeff.secrist@dot.gov.

SUPPLEMENTARY INFORMATION:

Title: Financial Responsibility for Motor Carriers of Passengers and Motor Carriers of Property.

OMB Control Number: 2126-0008.

Type of Request: Renewal of a currently approved ICR.

Respondents: Insurance underwriters for insurance companies and financial specialists for surety companies of motor carriers of property (Forms MCS-90 and MCS-82) and passengers (Forms MCS-90B and MCS-82B), and motor carrier compliance officers employed by motor carriers to store and maintain insurance and/or surety bond documentation in motor carrier vehicles.

Estimated Number of Respondents: 413,948.

Estimated Time per Response: FMCSA estimates that it takes 2 minutes to complete the Endorsement for Motor Carrier Policies of Insurance for Public Liability (Forms MCS-90 for property carriers and MCS-90B for passenger carriers) or the Motor Carrier Public Liability Surety Bond (Forms MCS-82 for property carriers and MCS-82B for passenger carriers); 1 minute to store/maintain documents at the motor carrier's principal place of business (49 CFR 387.7(d); 49 CFR 387.31(d)); and 1 minute per vehicle to place the respective document on board the vehicle as required for non-U.S.-domiciled carriers (49 CFR 387.7(f); 49 CFR 387.31(f)).

Expiration Date: May 31, 2024.

Frequency of Response: Upon creation, change, or replacement of an insurance policy or surety bond. Approximately one time per year.

Estimated Total Annual Burden: 12,249.

Background

The Secretary of Transportation is responsible for implementing regulations which establish minimum levels of financial responsibility for: (1) for-hire motor carriers of property to cover public liability, property damage, and environmental restoration, and (2) for-hire motor carriers of passengers to cover public liability and property damage. The Endorsement for Motor Carrier Policies of Insurance for Public Liability (Forms MCS-90/90B) and the Motor Carrier Public Liability Surety Bond (Forms MCS-82/82B) contain the minimum amount of information necessary to document that a motor carrier of property or passengers has obtained, and has in effect, the minimum levels of financial responsibility as set forth in applicable regulations (49 CFR 387.9 (motor carriers of property) and 49 CFR 387.33T (motor carriers of passengers)). FMCSA and the public can verify that a motor carrier of property or passengers has obtained, and has in effect, the required minimum levels of financial responsibility by reviewing the information enclosed within these documents.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator, Office of Research and Registration.

[FR Doc. 2024-04161 Filed 2-28-24; 8:45 am]

BILLING CODE 4910-EX-P